DEPARTMENT OF ENERGY

[FE Docket Nos. 04-83-NG, 04-79-NG, 04-85-NG, 04-84-NG, 04-83-NG, 04-86-NG, 04-88-NG, 04-90-NG, 04-89-NG, 04-91-NG, and 01-44-LNG]

Office of Fossil Energy; San Diego Gas & Electric Company, Select Energy New York, Inc., BP Canada Energy Marketing Corp., Merrill Lynch Commodities, Inc., San Diego Gas & Electric Company, Glendale Water and Power, Cook Inlet Energy Supply L.L.C., Coenergy Trading Company, Premstar Energy Canada LP, United Energy Trading, LLC, Itochu Petroleum Japan Ltd.; Orders Granting, Amending, and Vacating Authority To Import and Export Natural Gas, Including Liquefied Natural Gas

AGENCY: Office of Fossil Energy, DOE.

ACTION: Notice of Orders.

SUMMARY: The Office of Fossil Energy (FE) of the Department of Energy gives notice that during September 2004, it issued Orders granting, amending, and vacating authority to import and export natural gas, including liquefied natural gas. These Orders are summarized in the attached appendix and may be found on the FE Web site at http://www.fe.doe.gov (select gas regulation). They are also available for inspection and copying in the Office of Natural Gas Regulatory Activities, Docket Room 3E-033, Forrestal Building, 1000 Independence Avenue, SW., Washington, DC, 20585, (202) 586-9478. The Docket Room is open between the hours of 8 a.m. and 4:30 p.m., Monday through Friday, except Federal holidays.

Issued in Washington, DC on October 28, 2004.
R.F. Corbin,
Manager, Natural Gas Regulatory Activities, Office of Oil and Gas Global Security and Supply, Office of Fossil Energy.

Appendix—Orders Granting, Amending, and Vacating Import/Export Authorizations

Order No. | Date issued | Importer/exporter FE docket No. | Import volume | Export volume | Comments
2014 | 9-03-04 | San Diego Gas & Electric Company 04-83-NG | 73 Bcf |  | Import natural gas from Canada, beginning on December 1, 2004, and extending through November 30, 2006.
2015 | 9-07-04 | Select Energy New York, Inc. 04-79-NG | 15 Bcf |  | Import and export a combined total of natural gas from and to Canada, beginning on September 7, 2004, and extending through September 6, 2006.
2016 | 9-14-04 | BP Canada Energy Marketing Corp. 04-85-NG | 500 Bcf |  | Import and export a combined total of natural gas from and to Canada, beginning on September 24, 2004, and extending through September 23, 2006.
2017 | 9-15-04 | Merrill Lynch Commodities, Inc. 04-84-NG | 800 Bcf |  | Import and export a combined total of natural gas from and to Canada, beginning on October 1, 2004, and extending through September 30, 2006.
2014 | 9-21-04 | San Diego Gas & Electric Company 04-83-NG |  |  | Errata: Term of the authority was stated as beginning on December 1, 2004, amended to change the term as beginning on December 1, 2003.
2018 | 9-24-04 | Glendale Water and Power 04-86-NG | 3.8 Bcf |  | Import from Canada, beginning on November 1, 2002, and extending through October 31, 2004.
2019 | 9-24-04 | Cook Inlet Energy Supply L.L.C. 04-88-NG | 400 Bcf |  | Import and export a combined total of natural gas from and to Canada, beginning on September 20, 2004, and extending through September 19, 2006.
2020 | 9-24-04 | CoEnergy Trading Company 04-90-NG | 150 Bcf | 100 Bcf | Import and export natural gas from and to Canada, beginning on September 30, 2004, and extending through September 29, 2006.
2021 | 9-28-04 | PremStar Energy Canada LP 04-89-NG | 400 Bcf |  | Import and export a combined total of natural gas from and to Canada, beginning on October 1, 2004, and extending through September 30, 2006.
2022 | 9-28-04 | United Energy Trading LLC 04-91-NG | 400 Bcf |  | Import and export a combined total of natural gas from and to Canada, beginning on September 28, 2004, and extending through September 27, 2006.

[FR Doc. 04-24649 Filed 11-3-04; 8:45 am]

BILLING CODE 6450-01-P